CONSUMER PRODUCT SAFETY COMMISSION

16 CFR Part 1500

Hazardous Substances and Articles: Administration and Enforcement Regulations

CFR Correction

In Title 16 of the Code of Federal Regulations, Parts 1000 to End, revised as of January 1, 2016, on page 536, in § 1500.42, paragraph (a)(1), remove the second sentence.

[FR Doc. 2017-00240 Filed 1-6-17; 8:45 am]

BILLING CODE 1301-00-D